DEPARTMENT OF HEALTH AND HUMAN SERVICES

National Institute of Environmental Health Sciences: Superfund Research Program; Request for Information (NOT-ES-10-003): Superfund Research Program Strategic Planning

AGENCY: National Institute of Environmental Health Sciences (NIEHS), National Institutes of Health (NIH), HHS.

ACTION: Request for information.

SUMMARY: The NIEHS Superfund Research Program (SRP), in response to recommendations of the NIEHS Superfund Research Program External Advisory Panel convened in 2009, is seeking input to develop a strategic plan to provide direction to achieve its mandates described in SARA Section 311(a). Information provided will be used to develop a 5-year strategic plan to direct programmatic focus and enhance the impact of the SRP program. SRP welcomes input from sister Superfund agency representatives (i.e. United States Environmental Protection Agency, US EPA; and Agency for Toxic Substances and Disease Registry, ATSDR), other government officials, environmental health researchers, academics, members of the private sector, policy makers, the lay public, and others with an interest in the effects of hazardous substances on public health. SRP is using an online questionnaire and public meetings to receive input.

DATES: Please respond online at the Superfund Research Program Strategic Planning web page by January 29, 2010, at http://www.niehs.nih.gov/SRP/strategicplan. Meeting dates and locations, when available, will be listed at the same Web page.

FOR FURTHER INFORMATION CONTACT: Other correspondence regarding this RFI should be directed to either (1) Ms. Beth Anderson, SRP Program Analyst, P.O. Box 12233, MD K3-04, Research Triangle Park, NC 27709, (phone) 919-541-4481, (e-mail) tainer@niehs.nih.gov or (2) Dr. Heather Henry, SRP Program Administrator, P.O. Box 12233, MD K3-04, Research Triangle Park, NC 27709, (phone) 919-541-5330, (e-mail) henryh@niehs.nih.gov, fax (919)316-4606.

SUPPLEMENTARY INFORMATION:

Information Requested

The SRP requests input on the following:

1. Respondent Affiliation: University—SRP-funded (current or past grantee); University—not SRP-funded, US EPA (office/division); ATSDR; Other Federal Government; State/Local Government; Industry; Small Business; Not-for-Profit; General Public; Other.

2. Respondent Additional Contact Information: e-mail, address, phone.

Scope of Science. Part of the SRP strategic planning process is to identify ways to prioritize programmatic direction and to achieve balance given the many competing demands for research on hazardous substances. Respondents may wish to consider: potential for exposure; contaminant recalcitrance; elucidating new toxicity modalities; balance between: hazardous waste & hazardous substances, basic & applied research; emerging & established contaminants, human health & ecological health.

3. Given the breadth of Program mandates, what prioritization criteria should SRP use to guide inclusion of themes and issues to achieve Program balance? Provide specific examples as necessary.

Interdisciplinary Research. To address the complexity of environmental health issues, SRP endorses interdisciplinary research, or, interactions between researchers from a wide range of disciplines relevant to Program mandates.

4. What approaches (research or otherwise) will mostly effectively foster interdisciplinary interactions?

Training. To fulfill SARA mandates, SRP supports graduate training within funded grants. Given the interdisciplinary context of SRP, graduate trainees are exposed to multiple disciplines and, therefore, are well positioned to meet the complex challenges in environmental health as well as mitigation and management of hazardous substances.

5. What approaches or activities should SRP consider to enhance the impact of graduate training?

Identifying Stakeholders. SRP defines “stakeholders” as individuals, groups, or organizations likely to benefit from the SRP. In order to maximize the impact of program science, it is important to know the SRP stakeholders and how to reach them.

6. Who are SRP's stakeholders and what approaches or mechanisms can SRP use to most effectively interact with them?

Research Translation. Research translation is a concerted effort to ensure research is accessible to end-users. SRP supports research translation activities with the goal of accelerating the useful application of SRP science advances. Respondents may wish to consider how the program can accelerate research translation through: effective methods of communication, data sharing, technology transfer, etc…

7. What are the best ways for SRP to achieve its goal of accelerating research translation?

Community Engagement. Community outreach has been a long tradition of the SRP. SRP seeks input to most appropriately focus its community involvement, given the context of a grant program mandated to address hazardous substances. Respondents may wish to consider: which communities to target, what the community needs, what approach is most effective, how to engage communities, etc...

8. What approaches to community engagement are most appropriate for SRP?

9. What disciplines are needed to make the greatest impact in community engagement? Grant Mechanisms. As a university-based grant program, SRP has flexibility to offer a number of grant mechanisms. Grant mechanisms specify the structure of the research team (such as single-project, multi-project), the size of the teams, the disciplines represented, etc. Please consider the following question from this perspective.

10. What research team structure(s) and/or disciplines are needed to make the greatest advances in SRP Program mandates?

11. Additional Comments.

The SRP Web site provides information about the program that may aid in answering the questions. The site can be accessed at http://www.niehs.nih.gov/research/supported/srp/. All questions, except for affiliation, are optional. Please limit each response to 300 words. Responses will be compiled and posted on the SRP Strategic Planning Web site (http://www.niehs.nih.gov/SRP/strategicplan), using affiliation as the only identifier. Information may be summarized and used at a later date. If you submit your responses in a word doc, we ask that you prepare your responses by restating the question in your responses. You may use a variety of tools to respond to the questionnaire; however, all responses must be received not later than January 29, 2010. The following are acceptable ways to submit your responses:

1. Fill out the online questionnaire available on the Superfund Research Program Strategic Planning web page: http://www.niehs.nih.gov/SRP/strategicplan.

2. Copy and paste the above questions into the body of an e-mail message and send your responses to: srpinfo@niehs.nih.gov.

3. Mail or fax your responses in a letter to the attention of “SRP Strategic Planning” at the below address.

Division of Extramural Research and Training, National Institute of Environmental Health Sciences, National Institutes of Health, U.S. Department of Health and Human Services, P.O. Box 12233 (MD K3-04), Research Triangle Park, NC 27709, (Fax) 919-316-4606.

In addition to the questionnaire above, SRP will be holding face-to-face and web-based seminars to receive input from the public. For more information about these seminars and the strategic planning process, please visit: http://www.niehs.nih.gov/SRP/strategicplan.

Attendance, Registration, and Remote Access

Participation is free and open to the public. Registration requirements are provided on the meeting web pages available from the SRP Strategic Planning Web site: http://www.niehs.nih.gov/SRP/strategicplan. Individuals with disabilities who require special reasonable accommodations should contact Dr. Heather Henry at least seven days prior to the event: (phone) 919-541-5330, (e-mail) henryh@niehs.nih.gov, fax (919) 316-4606.

Dated: December 14, 2009.
William A. Suk,
Director, Center for Risk and Integrated Sciences, Director, Superfund Research Program, Division of Extramural Research and Training, National Institute of Environmental Health Sciences, National Institutes of Health.

[FR Doc. E9-30299 Filed 12-18-09; 8:45 am]

BILLING CODE 4140-01-P